DEPARTMENT OF LABOR

Mine Safety and Health Administration

Petitions for Modification

This notice amends the petition for modification submitted by Lone Mountain Processing, Inc., on July 15, 2009, (Docket Number M-2009-024-C). The amendment assigns a separate docket number for each of the mines listed. Lone Mountain Processing, Inc., filed a petition for modification of existing standard 30 CFR 75.503 (Permissible electric face equipment; maintenance) and 30 CFR 18.35 (Portable trailing cables and cords) for the Clover Fork No. 1 Mine, (MSHA I.D. No. 15-18647), Huff Creek No. 1 Mine (MSHA I.D. No. 15-17234), and Darby Fork No. 1 Mine, MSHA I.D. No. 15-02263). MSHA published the notice in the Federal Register on December 21, 2009 (74 FR 67915). Initially, this petition for modification was assigned one docket number. After investigating these mines it has been determined that the conditions at the mines are different and a separate decision and order will be issued for each mine. This requires having separate docket numbers for each mine. A docket number is assigned for each of the mines as follows: (a) The Lone Mountain Processing, Inc., Clover Fork No. 1 Mine, (MSHA I.D. No. 15-18647), Docket No. M-2009-024-C; (b) Huff Creek No. 1 Mine (MSHA I.D. No. 15-17234), Docket No. M-2010-021-C; and (c) Darby Fork No. 1 Mine, (MSHA I.D. No. 15-02263), Docket No. M-2010-022-C. These mines are located in Harlan County, Kentucky.

Patricia W. Silvey,
Director, Office of Standards, Regulations and Variances.

[FR Doc. 2010-11448 Filed 5-12-10; 8:45 am]

BILLING CODE P